DEPARTMENT OF JUSTICE

Notice of Lodging of Consent Judgment Pursuant to Comprehensive Environmental Response, Compensation and Liability Act

Notice is hereby given that on January 29, 2009, a proposed settlement agreement in In re Interstate Bakeries Corporation, et al., Case No. 04-45814, was lodged with the United States Bankruptcy Court for the Western District of Missouri.

The settlement agreement resolves the United States' proof of claim in the Chapter 11 reorganization of Interstate Bakeries Corporation and its affiliates (“Debtors”). The United States' proof of claim sought recovery of cleanup costs under Section 107(a) of the Comprehensive Environmental Response, Compensation and Liability Act, 42 U.S.C. 9607(a), at the Hows Corner Superfund Site in Plymouth, Maine (“Site”). The proposed settlement agreement provides for EPA to have an allowed general unsecured nonpriority claim in the total amount of $84,020. The claim will be paid in the ordinary course of the bankruptcy proceeding.

The Department of Justice will receive for a period of 30 days from the date of this publication comments regarding the proposed Consent Decree. Comments should be addressed to the Assistant Attorney General of the Environment and Natural Resources Division, and either e-mailed to pubcomment-ees.enrd@usdoj.gov or mailed to P.O. Box 7611, U.S. Department of Justice, Washington, DC 20044-7611, and should refer to In re Interstate Bakeries Corporation, et al., Case No. 04-45814, D.J. Ref. No. 90-11-3-1733/9.

The proposed settlement agreement may be examined at the Region I Office of the U.S. Environmental Protection Agency, One Congress Street, Suite 1100, Boston, MA 02114. During the public comment period, the proposed Consent Decree may also be examined on the following Department of Justice Web site, http://www.usdoj.gov/enrd/Consent_Decrees.html. A copy of the proposed Consent Decree may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy of the proposed Consent Decree, please enclose a check in the amount of $1.75 (25 cents per page reproduction cost) payable to the U.S. Treasury or, if by e-mail or fax, forward a check in that amount to the Consent Decree Library at the stated address.

Ronald Gluck,
Assistant Section Chief, Environmental Enforcement Section, Environment and Natural Resources Division.

[FR Doc. E9-2407 Filed 2-4-09; 8:45 am]

BILLING CODE 4410-15-P